DEPARTMENT OF STATE

[Public Notice 11533]

Notice of Shipping Coordinating Committee Meeting in Preparation for International Maritime Organization MSC 104 Meeting

The Department of State will conduct a public meeting of the Shipping Coordinating Committee at 10:00 a.m. on Thursday, September 30, 2021, by way of teleconference. Members of the public may participate up to the capacity of the teleconference phone line, which can handle 500 participants. To access the teleconference line, participants should contact the meeting coordinator, LCDR Jessica Anderson, by email at jessica.p.anderson@uscg.mil.

The primary purpose of the meeting is to prepare for the 104th session of the International Maritime Organization's (IMO) Maritime Safety Committee (MSC 104) to be held remotely from Monday, October 4, 2021 to Friday, October 8, 2021.

The agenda items to be considered at the advisory committee meeting mirror those to be considered at MSC 104, and include:

—Adoption of the agenda; report on credentials

—Decisions of other IMO bodies

—Consideration and adoption of amendments to mandatory instruments

—Capacity-building for the implementation of new measures

—Measures to improve domestic ferry safety

—Goal-based new ship construction standards

—Measures to improve domestic ferry safety

—Measures to enhance maritime security

—Piracy and armed robbery against ships

—Unsafe mixed migration by sea

—Formal safety assessment

—Human element, training and watchkeeping (report of the seventh session of the Sub-Committee)

—Navigation, communications and search and rescue (report of the eighth session of the Sub-Committee)

—Implementation of IMO instruments (report of the seventh session of the Sub-Committee)

—Application of the Committee's method of work

—Work programme

—Election of Chair and Vice-Chair for 2022

—Any other business

—Consideration of the report of the Committee on its 104th session

Please note: The IMO may, on short notice, adjust the MSC 104 agenda to accommodate the constraints associated with the virtual meeting format. Any changes to the agenda will be reported to those who RSVP and those in attendance at the meeting.

Those who plan to participate may contact the meeting coordinator, LCDR Jessica Anderson, by email at Jessica.P.Anderson@uscg.mil, or in writing at 2703 Martin Luther King Jr. Ave. SE, Stop 7509, Washington DC 20593-7509. Members of the public needing reasonable accommodation should advise LCDR Jessica Anderson not later than September 28, 2021. Requests made after that date will be considered, but might not be possible to fulfill.

Additional information regarding this and other IMO public meetings may be found at: https://www.dco.uscg.mil/IMO.

(Authority: 22 U.S.C. 2656 and 5 U.S.C. 552)

Emily A. Rose,
Executive Secretary, Shipping Coordinating Committee, Office of Ocean and Polar Affairs, Department of State.

[FR Doc. 2021-19525 Filed 9-9-21; 8:45 am]

BILLING CODE 4710-09-P